DEPARTMENT OF COMMERCE

National Oceanic and Atmospheric Administration

RIN 0648-XD052

New England Fishery Management Council; Public Meeting

AGENCY: National Marine Fisheries Service (NMFS), National Oceanic and Atmospheric Administration (NOAA), Commerce

ACTION: Notice; public meeting.

SUMMARY: The New England Fishery Management Council (Council) is scheduling a public meeting of its Ad Hoc SBRM Committee to consider actions affecting New England fisheries in the exclusive economic zone (EEZ).

DATES: This meeting will be held on Thursday, January 16, 2014 at 8:30 a.m.

ADDRESSES: Meeting address: The meeting will be held at the Sheraton Harborside Hotel, 25 Market Street, Portsmouth, NH 03801; telephone: (603) 431-2300; fax: (603) 431-7805.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee will review the draft Standardized Bycatch Reporting Methodology Amendment, consider comments received during the public comment period on the amendment (see 78 FR 69391), and prepare recommendations for the Council. Recommendations from this group will be brought to the full Council for formal consideration and action, if appropriate.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting will be physically accessible to people with disabilities. Requests for sign language interpretation or other auxiliary aids should be directed to Thomas A. Nies, Executive Director, at (978) 465-0492, at least 5 days prior to the meeting date.

Authority: 16 U.S.C. 1801 et seq.

Dated: December 24, 2013.
Tracey L. Thompson,
Acting Deputy Director, Office of Sustainable Fisheries, National Marine Fisheries Service.

[FR Doc. 2013-31173 Filed 12-27-13; 8:45 am]

BILLING CODE 3510-22-P